DEPARTMENT OF JUSTICE

Notice of Lodging of Proposed Modified Consent Decree Under the Comprehensive Environmental Response, Compensation and Liability Act

Notice is hereby given that on January 24, 2007, a proposed Modified Consent Decree in United States of America and Commonwealth of Virginia v. American Cyanamid Company, et al., Civil Action Nos. 90-0046-C, 91-0003-C, was lodged with the United States District Court for the Western District of Virginia.

In this action, the United States seeks a Third Modification of the Consent Decree that the United States lodged in 1991 to resolve the claims of the United States and the Commonwealth of Virginia under Sections 107 and 106(a) of the Comprehensive Environmental Response, Compensation and Liability Act (“CERCLA”), 42 U.S.C. 9607 and 9606(a), at the U.S. Titanium Superfund Site located at the southern boundary of Nelson County, near the community of Piney River, Virginia (the “Site”). This proposed Third Modification incorporates an EPA amendment to the remedy that requires institutional controls at the Site. Specifically, the modification requires American Cyanamid and its corporate successors, Wyeth Holdings Corporation, Cytec Industries Inc., and Piney Development Corporation to comply with certain land use restrictions and to record a Declaration of Restrictive Covenants documenting those restrictions and providing EPA with access to the Site. These restrictions prohibit or limit (1) Installation of any drinkingw water wells in areas where the groundwater is contaminated; (2) any new development at the Site that might interfere with the remedy; and (3) unauthorized earth moving activities where remedial actions have occurred.

The Department of Justice will receive for a period of thirty (30) days from the date of this publication comments relating to this proposed Modified Consent Decree. Comments should be addressed to the Assistant Attorney General, Environmental and Natural Resources Division, P.O. Box 7611, U.S. Department of Justice, Washington, DC 20044-7611, Attention: Nancy Flickinger, and should refer to United States of America and Commonwealth of Virginia v. American Cyanamid Company, et al., Civil Action Nos. 90-0046-C, 91-0003-C, and should refer to D.J. Ref. 90-11-2-562.

The Modified Consent Decree may be examined at the Office of the United States Attorney for the Western District of Virginia, 310 First Street, SW., Room 906, Roanoke, Virginia 24011, and at U.S. EPA Region III's Office, 1650 Arch Street, Philadelphia, PA 19103. During the public comment period, the consent decree may also be examined on the following Department of Justice Web site, http://www.usdoj.gov/enrd/Consent_Decrees.html. A copy of the proposed Modified Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547.

In requesting a copy from the Consent Decree Library, please enclose a check in the amount of $3.25 (25 cents per page reproduction cost for a full copy) payable to the U.S. Treasury.

Robert D. Brook,
Assistant Chief, Environmental Enforcement Section, Environment and Natural Resources Division.

[FR Doc. 07-686 Filed 2-14-07; 8:45 am]

BILLING CODE 4410-15-M